DEPARTMENT OF ENERGY

Office of Fossil Energy

[FE Docket No. 00-27-NG, et al.]

Texaco Natural Gas Inc., et al.; Orders Granting, Amending and Vacating Authority To Import and Export Natural Gas, Including Liquefied Natural Gas

AGENCY: Office of Fossil Energy, DOE.

ACTION: Notice of Orders.

SUMMARY: The Office of Fossil Energy (FE) of the Department of Energy gives notice that during April 2000, it issued Orders granting, amending, and vacating authority to import and export natural gas, including liquefied natural gas. These Orders are summarized in the attached appendix and may be found on the FE web site at http://www.fe.doe.gov, or on the electronic bulletin board at (202) 586-7853. They are also available for inspection and copying in the Office of Natural Gas & Petroleum Import & Export Activities, Docket Room 3E-033, Forrestal Building, 1000 Independence Avenue, SW., Washington, DC 20585, (202) 586-9478. The docket room is open between the hours of 8 a.m. and 4:30 p.m., Monday through Friday, except Federal holidays.

Issued in Washington, DC, on June 8, 2000.
John W. Glynn,
Manager, Natural Gas Regulation, Office of Natural Gas & Petroleum Import & Export Activities, Office of Fossil Energy.

Appendix

Orders Granting, Amending and Vacating Import/Export Authorizations
DOE/FE authority: Order No. | DOE/FE authority: Date issued | Importer/exporter FE Docket No. | In Bcf: Import volume | In Bcf: Export volume | Comments
1588 | 05/01/00 | Texaco Natural Gas Inc. 00-27-NG | 120 |  | Import from Mexico beginning on May 3, 2000, and extending through May 2, 2002.
1589 | 05/01/00 | Northwest Natural Gas Company 00-28-NG | 150 | 150 | Import and export from and to Canada beginning on May 1, 2000, and extending through April 30, 2002.
1590 | 05/05/00 | Cabot Energy Service Corporation 00-29-LNG | 100 |  | Import LNG from various international sources over a two-year term beginning on the date of first delivery.
1591 | 05/10/00 | Chevron U.S.A. Inc. 00-26-NG | 18 |  | Import from Canada beginning on July 1, 2000, and extending through June 30, 2000.
1487-A | 05/11/00 | Sempra Energy Trading Corp., 99-36-NG | 300 |  | Amendment to existing authority to allow the importation of liquefied natural gas from any international source through June 15, 2001.
1592 | 05/16/00 | OGE Energy Resources, Inc., 00-32-NG | 400 |  | Import and export a combined total from and to Canada over a two-year term beginning on the date of first import or export delivery.
1593 | 05/16/00 | Indeck-Yerkes Limited Partnership, 00-31-NG | 18 |  | Import from Canada beginning on May 16, 2000, and extending through May 15, 2002.
1409-A | 05/16/00 | Indeck-Yerkes Limited Partnership, 98-60-NG |  |  | Vacate blanket import authority.
1594 | 05/16/00 | Indeck-Oswego Limited Partnership, 00-30-NG | 18 |  | Import from Canada beginning on May 16, 2000, and extending through May 15, 2002.
1410-A | 05/16/00 | Indeck-Oswego Limited Partnership, 98-61-NG |  |  | Vacate blanket import authority.
1595 | 05/18/00 | Ener-Son of U.S.A., 00-19-LNG |  | 33 | Export to Mexico, including LNG over a two-year term beginning on the date of first delivery.
1595 | 05/18/00 | Ener-Son of U.S.A., 98-66-LNG |  |  | Vacate blanket export authority.
1596 | 05/22/00 | North American Energy, Inc., 00-33-NG | 20 |  | Import from Canada beginning on August 3, 2000, and extending through August 2, 2002.
1597 | 05/25/00 | National Fuel Resources, Inc., 00-35-NG | 50 |  | Import and export a combined total from and to Canada beginning June 1, 2000, and extending through May 31, 2002.
1598 | 05/25/00 | West Texas Gas, Inc., 00-36-NG |  | 50 | Export to Mexico beginning on June 1, 2000, and extending through May 31, 2002.
1599 | 05/25/00 | Burlington Resources Trading Inc., 00-34-NG | 200 |  | Import and export a combined total from and to Canada over a two-year term beginning on the date of first delivery.

[FR Doc. 00-15476 Filed 6-19-00; 8:45 am]

BILLING CODE 6450-01-P